FEDERAL RESERVE SYSTEM

Formations of, Acquisitions by, and Mergers of Bank Holding Companies; Correction

This notice corrects a notice (FR Doc. E7-6705) published on pages 17908 and 17909 of the issue for Tuesday, April 10, 2007..

Under the Federal Reserve Bank of New York heading, the entry for Banco Bilbao Vizcaya Argentaria, S.A. (BBVA), Bilbao, Spain, and Circle Merger Corp., Birmingham, Alabama, is revised to read as follows:

A. Federal Reserve Bank of New York (Anne MacEwen, Bank Applications Officer) 33 Liberty Street, New York, New York 10045-0001:

1. Banco Bilbao Vizcaya Argentaria, S.A. (BBVA), Bilbao, Spain; to acquire 100 percent of the voting shares of Compass Bancshares, Inc., Birmingham, Alabama, and thereby indirectly acquire voting shares of Compass Bank, Birmingham, Alabama, and Central Bank of the South, Anniston, Alabama.

In addition, Circle Merger Corp., Birmingham, Alabama, a wholly-owned subsidiary of Compass Bancshares, Inc., proposes to become a bank holding company by acquiring 100 percent of the voting shares of Compass Bancshares Inc., for a moment in time, to facilitate the acquisition of Compass Bancshares, Inc., by BBVA.

Furthermore, Blue Transaction Corporation, The Woodlands, Texas; a wholly-owned subsidiary of BBVA, proposes to become a bank holding company through the merger of Circle Merger Corp., with and into Blue Transaction Corporation.

Comments on this application must be received by May 4, 2007.

Board of Governors of the Federal Reserve System, April 19, 2007.
Jennifer J. Johnson,
Secretary of the Board.

[FR Doc. E7-7793 Filed 4-24-07; 8:45 am]

BILLING CODE 6210-01-S